DEPARTMENT OF ENERGY

Federal Energy Regulatory Commission

Combined Notice of Filings #1

Take notice that the Commission received the following electric corporate filings:

Docket Numbers: EC19-128-000.

Applicants: Wildorado Wind, LLC.

Description: Application for Authorization Under Section 203 of the Federal Power Act, et al.

Filed Date: 8/23/19.

Accession Number: 20190823-5176.

Comments Due: 5 p.m. ET 9/13/19.

Take notice that the Commission received the following exempt wholesale generator filings:

Docket Numbers: EG19-172-000.

Applicants: TWE Bowman Solar Project, LLC.

Description: Notice of Self-Certification of Exempt Wholesale Generator Status of TWE Bowman Solar Project, LLC.

Filed Date: 8/23/19.

Accession Number: 20190823-5160.

Comments Due: 5 p.m. ET 9/13/19.

Docket Numbers: EG19-173-000.

Applicants: MD Solar 2, LLC.

Description: Notice of Self-Certification of Exempt Wholesale Generator Status.

Filed Date: 8/26/19.

Accession Number: 20190826-5032.

Comments Due: 5 p.m. ET 9/16/19.

Docket Numbers: EG19-174-000.

Applicants: FL Solar 4, LLC.

Description: FL Solar 4 Submits Notice of Self-Certification of Exempt Wholesale Generator Status.

Filed Date: 8/26/19.

Accession Number: 20190826-5033.

Comments Due: 5 p.m. ET 9/16/19.

Docket Numbers: EG19-175-000.

Applicants: AZ Solar 1, LLC.

Description: AZ Solar 1, LLC Submits Notice of Self-Certification of Exempt Wholesale Generator Status.

Filed Date: 8/26/19.

Accession Number: 20190826-5034.

Comments Due: 5 p.m. ET 9/16/19.

Docket Numbers: EG19-176-000.

Applicants: GA Solar 3, LLC.

Description: AZ Solar 1, LLC Submits Notice of Self-Certification of Exempt Wholesale Generator Status.

Filed Date: 8/26/19.

Accession Number: 20190826-5035.

Comments Due: 5 p.m. ET 9/16/19.

Take notice that the Commission received the following electric rate filings:

Docket Numbers: ER19-2065-002.

Applicants: Midcontinent Independent System Operator, Inc., Ameren Illinois Company.

Description: Tariff Amendment: 2019-08-26_SA 2026 Ameren-Hannibal Second Substitute 2nd Rev WDS to be effective 8/1/2019.

Filed Date: 8/26/19.

Accession Number: 20190826-5094.

Comments Due: 5 p.m. ET 9/16/19.

Docket Numbers: ER19-2275-001.

Applicants: MidAmerican Energy Company.

Description: Tariff Amendment: Concurrence with Ottumwa GS Unit 1 F&O Agt—Amendment to ER19-2275 to be effective 6/27/2019.

Filed Date: 8/26/19.

Accession Number: 20190826-5093.

Comments Due: 5 p.m. ET 9/16/19.

Docket Numbers: ER19-2680-000.

Applicants: Pacific Gas and Electric Company.

Description: § 205(d) Rate Filing: E&P Agreement for EDPR CA Solar Park-Sandrini Sol 2 to be effective 8/27/2019.

Filed Date: 8/26/19.

Accession Number: 20190826-5000.

Comments Due: 5 p.m. ET 9/16/19.

Docket Numbers: ER19-2681-000.

Applicants: Southwest Power Pool, Inc.

Description: § 205(d) Rate Filing: Attachment AE Revisions to Modify Market Timelines to be effective 12/31/9998.

Filed Date: 8/26/19.

Accession Number: 20190826-5089.

Comments Due: 5 p.m. ET 9/16/19.

Docket Numbers: ER19-2682-000.

Applicants: PJM Interconnection, L.L.C.

Description: § 205(d) Rate Filing: Original ICSA, SA No. 5454; Queue No. AB2-093 to be effective 7/26/2019.

Filed Date: 8/26/19.

Accession Number: 20190826-5142.

Comments Due: 5 p.m. ET 9/16/19.

Take notice that the Commission received the following electric reliability filings:

Docket Numbers: RR19-8-000.

Applicants: North American Electric Reliability Corporation.

Description: Request of North American Electric Reliability Corporation for Acceptance of its 2020 Business Plan and Budget and the 2020 Business Plans and Budgets of Regional Entities and for Approval of Proposed Assessments to Fund Budgets.

Filed Date: 8/23/19.

Accession Number: 20190823-5182.

Comments Due: 5 p.m. ET 9/16/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 26, 2019.
Kimberly D. Bose,
Secretary.

[FR Doc. 2019-18835 Filed 8-29-19; 8:45 am]

BILLING CODE 6717-01-P